DEPARTMENT OF TRANSPORTATION

Federal Aviation Administration

[Summary Notice No. PE-2017-24]

Petition for Exemption; Summary of Petition Received

AGENCY: Federal Aviation Administration (FAA), DOT.

ACTION: Notice of petition for exemption received.

SUMMARY: This notice contains a summary of a petitions seeking relief from specified requirements of 14 CFR. The purpose of this notice is to improve the public's awareness of, and participation in, this aspect of FAA's regulatory activities. Neither publication of this notice nor the inclusion or omission of information in the summary is intended to affect the legal status of the petitions or their final disposition.

DATES: Comments on this petition must identify the petition docket number and must be received on or before May 10, 2017.

ADDRESSES: You may send comments identified by Docket Number FAA-2017-0056 using any of the following methods:

• Government-wide rulemaking Web site: Go to http://www.regulations.gov and follow the instructions for sending your comments electronically.

• Mail: Send comments to the Docket Management Facility; U.S. Department of Transportation, 1200 New Jersey Avenue SE., West Building Ground Floor, Room W12-140, Washington, DC 20590.

• Fax: Fax comments to the Docket Management Facility at 202-493-2251.

• Hand Delivery: Bring comments to the Docket Management Facility in Room W12-140 of the West Building Ground Floor at 1200 New Jersey Avenue SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue SE., Washington, DC, between 9 a.m. and 5 p.m., Monday through Friday, except Federal holidays.

FOR FURTHER INFORMATION CONTACT: Joshua Parker, (202) 267-1538, 800 Independence Avenue SW., Washington, DC 20591.

This notice is published pursuant to 14 CFR 11.85.

Issued in Washington, DC, on April 14, 2017.
Dale Bouffiou,
Deputy Director, Office of Rulemaking.

Petition for Exemption

Docket No.: FAA-2017-0056.

Petitioner: Leonardo Helicopters.

Sections of 14 CFR Affected: 14 CFR 43.3(h); 43.15(b);

61.163(a)(3);

91.103(b)(1); 91.126(b); 91.129(e)(1)-(3); 91.131(a)(2); 91.146(b)(5); 91.151(b); 91.155(b); 91.157(b)(5); 91.167(a)(3); 91.169(b)(2) & (c)(1)(i) & (ii); 91.175(f)(2)(iii) & (4)(i); 91.205(d)(3)(i) & (ii); 91.207(e); 91.223(a)(c); 91.409(e); 91.411(a); 91.501(a); 91.503(a); 91.507; 91.509(a) & (b)(4); 91.511(a); 91.513(a) & (f)(1) & (2); 91.515(a); 91.517(a) & (b); 91.519(a); 91.521(a); 91.525(a); 91.527(a), (b)(3), & (c); 91.531(a)(1); 91.603; 91.609(c)(3), (h), (i)(3) & (j); 91.1037; 91.1045(b); 91.1101(b)(6)(iv), (b)(6)(iv)(B) & (b)(6)(iv)(D); 91.1439(a)(2)(i), (ii), & (vi);

97.3;

110.2;

119.1(e)(2), (e)(4)(v), (e)(7) & (e)(7)(iii); 119.23(b); 119.25;

133.1; 133.11; 133.13; 133.17; 133.19; 133.21(a); 133.23; 133.25; 133.27; 133.33; 133.35; 133.39; 133.41; 133.43(a); 133.45; 133.47; 133.49; 133.51;

135.1(a)(9); 135.4(a)(3); 135.23(r)(7); 135.65(c); 135.151(a), (b), (g) & (h); 135.154(a)(2) & (c); 135.158(a); 135.159(a)(1) & (2); 135.170(c)(2); 135.168; 135.203(a) & (b); 135.205(a) & (b); 135.207; 135.227(c)(2), (c)(3), (d), & (e); 135.243(a)(2), (b)(3), (b)(4) & (c)(3) & (4); 135.247(a)(3), (a)(3)(i), (a)(3)(i)(B)-(D) & (a)(3)(ii)(B); 135.271; 135.293(a)(9), (b), (c) & (h); 135.297(c)(1)(i) & (ii); 135.336(b)(1); 135.345(b)(6)(iv) & (b)(6)(iv)(D); 135.361(a); 135.363(b) & (f); 135.379(a); 135.385(a) & (b); 135.387(a) & (b); 135.413(b)(1); 135.421(a) & (b); 135.427(b); 135.439(a)(2)(i), (ii) & (vi), (b)(1), (b)(2); 135.601(a), (b)(1)(i) & (ii) & (b)(2); 135.603; 135.605(a), (b) & (c); 135.607; 135.609(a); 135.611(a) & (b); 135.617(a) & (c); 135.619(a), (b), & (g)(1); 135.621(a) & (b);

and 142.11(d)(2)(iii)

Description of Relief Sought: AgustaWestland Philadelphia Corporation (AWPC) seeks an exemption on behalf of all potential AW609 operators for exemption from certain prescriptive terms within certain sections of 14 CFR. The AW609 is a tiltrotor aircraft manufactured by Augusta Westland. Because the AW609 opearates as a helicopter for takeoff and landing, and as an airplane for other flight, AWPC asserts that potential operators of the AW609, require exemption(s) from those sections of 14 CFR that reference “airplane,” “airplanes,” “rotorcraft,” “rotor,” “fixed-wing,” “fixed-wing aircraft,” “copter,” “helicopter,” “AFM, propeller and airplane/rotorcraft flight manuals”. AWPC describes the AW609 as a vertical take-off and landing (VTOL) aircraft that is essentially a helicopter from a flight characteristics and performance standpoint. AWPC believes that relief through the exemption process will enable sales of tiltrotor aircraft, which will contribute to the balance-of-trade, the gross domestic product and economic health of the United States. AWPC also asserts the level of safety is not compromised in comparison to similar helicopter operations, and that granting this relief is in the public's interest and maintains that an acceptable equivalent level of safety will exist by substituting the term tiltrotor or aircraft for helicopter and other specific terms that exist in the regulations listed above.

[FR Doc. 2017-07944 Filed 4-19-17; 8:45 am]

BILLING CODE 4910-13-P